Title 3—

The President

Proclamation 9065 of November 29, 2013

National Impaired Driving Prevention Month, 2013

By the President of the United States of America

A Proclamation

During the holiday season, Americans join with family, friends, and neighbors to take part in longstanding traditions. For some, those celebrations are tempered by the absence of loved ones taken too soon in traffic crashes involving drugs or alcohol, or caused by distracted driving. During National Impaired Driving Prevention Month, we dedicate ourselves to saving lives and eliminating drunk, drugged, and distracted driving.

Impaired drivers are involved in nearly one-third of all deaths from motor vehicle crashes in the United States, taking almost 30 lives each day. This is unacceptable. My Administration is committed to raising awareness about the dangers of impaired driving, improving screening methods, and ensuring law enforcement has the tools and training to decrease drunk and drugged driving. We are designing effective, targeted prevention programs, and are working to curtail all forms of distracted driving, including texting and cell phone use. To keep the American people safe this holiday season, law enforcement across our Nation will participate in the national Drive Sober or Get Pulled Over campaign from December 13 to January 1. This initiative increases enforcement and reminds us all to consider the consequences of impaired driving.

Everyone has a role to play in keeping our roads safe—from parents, schools, and businesses to faith-based and community organizations. Together, we can teach young people, friends, and fellow citizens how to avoid a crash brought on by impaired driving. I encourage all Americans to designate a non-drinking driver, plan ahead for alternative transportation, or make arrangements to stay with family and friends before consuming alcohol. Americans should also know what precautions to take if using over-the-counter or prescription medication. For more information, please visit www.WhiteHouse.gov/ONDCP and www.NHTSA.gov/Impaired.

This month and always, let every American drive sober, buckle-up, and avoid distractions while driving. If we take these actions and encourage those around us to do the same, we will save thousands of lives and keep thousands of families whole.

NOW, THEREFORE, I, BARACK OBAMA, President of the United States of America, by virtue of the authority vested in me by the Constitution and the laws of the United States, do hereby proclaim December 2013 as National Impaired Driving Prevention Month. I urge all Americans to make responsible decisions and take appropriate measures to prevent impaired driving.

IN WITNESS WHEREOF, I have hereunto set my hand this twenty-ninth day of November, in the year of our Lord two thousand thirteen, and of the Independence of the United States of America the two hundred and thirty-eighth.

[FR Doc. 2013-29266

Filed 12-4-13; 11:15 am]

Billing code 3295-F4